DEPARTMENT OF DEFENSE

Office of the Secretary

Notice of a Pilot Program on Medication Therapy Management Under the TRICARE Program

AGENCY: Office of the Secretary, Department of Defense.

ACTION: Notice of a Pilot Program.

SUMMARY: Per Section 726 of the National Defense Authorization Act (NDAA) for Fiscal Year (FY) 2015, the Department of Defense (DoD) is implementing a 2-year Pilot Program, “Pilot Program on Medication Therapy Management Under TRICARE Program”. The Pilot Program will provide Medication Therapy Management (MTM) services to promote adherence and improve medication-related health outcomes for TRICARE beneficiaries (Beneficiaries) with more than one chronic medical condition and taking more than one medication. The Pilot Program will be conducted in three types of pharmacy settings. The intent of this Pilot Program is to evaluate the feasibility and desirability of including MTM as part of the TRICARE Program.

DATES: The demonstration began on October 1, 2016, and will continue for no less than two years.

FOR FURTHER INFORMATION CONTACT: Mr. David W. Bobb, Defense Health Agency, J-3 Pharmacy Operations Division, telephone 703-681-2890.

SUPPLEMENTARY INFORMATION:

A. Background

Medicare Part D plans already provide MTM/clinical pharmacy services to Medicare beneficiaries at high risk of medication-related problems. The design of the DoD Pilot Program will consider best commercial practices in providing MTM services.

The value of including clinical pharmacists on the PCMH care team is well documented in the literature as delivering improved outcomes, better medication adherence, and supports the tenets of healthcare reform including enhanced access, improved quality, reduced cost, and enhanced patient safety.

Clinical pharmacists play a critical role in the success of care provided through the PCMH model. Utilizing clinical pharmacists has clearly shown the relationship between pharmacist involvement and positive patient outcomes especially in the optimization of medication therapy, medication adherence, and the reduction in polypharmacy users.

B. Description of the Pilot Program

Services will be offered by pharmacists at three different location types: (1) MTFs with a pharmacist embedded supporting a PCMH, (2) MTF pharmacies for beneficiaries who receive primary care services from providers outside an MTF but bring their prescriptions to the MTF pharmacy, and (3) pharmacies other than an MTF. MTM involves a pharmacist in the review of prescription history where the pharmacist works with the patient and their primary care provider to develop action plans for any medication-related problems. The overall goal of MTM is to open a dialogue with beneficiaries and include them in medication-related decision-making to optimize drug therapy, reduce medication-related problems, improve adherence to therapy, and improve health outcomes. As stated in Section 726, NDAA FY15, the 2-year pilot program's target population will be beneficiaries who have more than one chronic medical condition and are taking more than one medication.

This pilot program will focus specifically on beneficiaries diagnosed with at least three chronic medical conditions and taking multiple medications. The following chronic medical conditions will be considered for this pilot: Alzheimer's disease, Chronic Heart Failure, Diabetes, Dyslipidemia, End-Stage Renal Disease, Hypertension, Respiratory Disease (Asthma, Chronic Obstructive Pulmonary Disease [COPD]), Rheumatoid Arthritis, Post-Traumatic Stress Syndrome, Depression, and Polypharmacy. This is consistent with the intent of Section 726, NDAA FY 2015 of more than one chronic medical condition and taking more than one medication. Each site within the three location types will target an enrollment of 400 beneficiaries over at least 12 months, but not to exceed 24 months, providing up to 6 hours of contact per beneficiary per year.

Selection for Location Type 1 will be from the existing PCMH empaneled population. MTM services will be provided by a pharmacist embedded in the PCMH. The following facilities will be included in the pilot program for Location Type 1: Fort Campbell, Naval Station Mayport, and Hill Air Force Base.

Location Type 2 will include beneficiaries who use MTF pharmacies but receive medical care from providers in the purchased care sector. Beneficiaries will be notified of their eligibility to participate in the Pilot Program, and may choose to accept or decline participation. Beneficiaries participating in the Pilot Program at this location type generally do not receive primary care services from health care providers at MTFs. The following facilities will be included in the pilot program for Location Type 2: Fort Campbell, Marine Corps Base Camp Pendleton, and Patrick Air Force Base.

Location Type 3 will provide MTM services for beneficiaries receiving medical and pharmaceutical care outside of an MTF. Beneficiaries will be notified of their eligibility to participate in the Pilot Program, and may choose to accept or decline participation. The following areas will be included in the pilot program for Location Type 3: Denver, Colorado, Orlando, Florida, and Houston, Texas.

MTM services will be provided by a pharmacist to beneficiaries empaneled in the pilot program. Appointments will be conducted face to face, over the telephone, and/or by video conferencing. MTM services will include a Comprehensive Medication Review (CMR) consisting of an assessment of the beneficiary's medication regimen, a comprehensive record of medications, a collaborative care agreement between the beneficiary and the pharmacist, communication with the beneficiary's healthcare providers, and documentation with follow up. CMR is conducted at the initial visit and annually thereafter. Interim Targeted Medication Reviews are offered quarterly to monitor unresolved issues requiring attention and to determine if new drug therapy problems have arisen. The pharmacist, in consultation with the beneficiary, reviews pertinent medical and prescription history and develops action plans to address medication-related problems.

C. Evaluation

The effect of MTM services on beneficiary use and outcomes of prescription medications and the cost of health care will be evaluated using established DoD metrics of Per Member Per Month (PMPM) and Pharmacy PMPM. Additional measures may include a review of changes in utilization of the emergency department, hospitalization rates and readmission rates. Beneficiary use and outcomes of prescription medications will assess medication adherence and disease related outcomes measures, when available.

A report to Congress is required not later than 30 months after the start of the Pilot.

Dated: November 27, 2017.
Aaron Siegel,
Alternate OSD Federal Register Liaison Officer, Department of Defense.

[FR Doc. 2017-25823 Filed 11-30-17; 8:45 am]

BILLING CODE 5001-06-P